DEPARTMENT OF TRANSPORTATION

National Highway Traffic Safety Administration

Petition for Exemption From the Federal Motor Vehicle Theft Prevention Standard; DaimlerChrysler

AGENCY: National Highway Traffic Safety Administration (NHTSA), Department of Transportation (DOT).

ACTION: Grant of petition for exemption.

SUMMARY: This document grants in full the petition of DaimlerChrysler Corporation, (DaimlerChrysler) for an exemption of a high-theft line, the Jeep Grand Cherokee, from the parts-marking requirements of the Federal Motor Vehicle Theft Prevention Standard. This petition is granted because the agency has determined that the antitheft device to be placed on the line as standard equipment is likely to be as effective and reducing and deterring motor vehicle theft as compliance with the parts-marking requirements of the Theft Prevention Standard.

DATES: The exemption granted by this notice is effective beginning with model year (MY) 2004.

FOR FURTHER INFORMATION CONTACT: Ms. Rosalind Proctor, Office of Planning and Consumer Standards, NHTSA, 400 Seventh Street, SW., Washington DC 20590. Ms. Proctor's phone number is (202) 366-0846. Her fax number is (202) 493-2290.

SUPPLEMENTARY INFORMATION: In a petition dated September 27, 2002, DaimlerChrysler Corporation, (DaimlerChrysler), requested an exemption from the parts-marking requirements of the theft prevention standard (49 CFR Part 541) for the Jeep Grand Cherokee vehicle line, beginning with MY 2004. The petition requested an exemption from parts-marking requirements pursuant to 49 CFR 543, Exemption from Vehicle Theft Prevention Standard, based on the installation of an antitheft device as standard equipment for the entire vehicle line.

Section 33106(b)(2)(D) of Title 49, United States Code, authorized the Secretary of Transportation to grant an exemption from the parts-marking requirements for not more than on additional line of a manufacturer for MYs 1997-2000. However, it does not address the contingency of what to do after model year 2000 in the absence of a decision under Section 33103(d). 49 U.S.C. § 33103(d)(3) states that the number of lines for which the agency can grant an exemption is to be decided after the Attorney General completes a review of the effectiveness of antitheft devices and finds that antitheft devices are an effective substitute for parts-marking. The Attorney General has not yet made a finding and has not decided the number of lines, if any, for which the agency will be authorized to grant an exemption. Upon consultation with the Department of Justice, we determined that the appropriate reading of Section 33103(d) is that the National Highway Traffic Safety Administration (NHTSA) may continue to grant parts-marking exemptions for more than one additional model line each year, as specified for model years 1997-2000 by 49 U.S.C. 33106(b)(2)(C). This is the level contemplated by the Act for the period before the Attorney General's decision. The final decision on whether to continue granting exemptions will be made by the Attorney General at the conclusion of the review pursuant to Section 330103(d)(3).

DaimlerChrysler submission is considered a complete petition as required by 49 CFR 543.7, in that it meets the general requirements contained in § 543.5 and the specific content requirements of § 543.6.

In its petition, DaimlerChrysler provided a detailed description and diagram of the identity, design, and location of the components of the antitheft device for the new vehicle line. DiamlerChrysler will install its antitheft devise as standard equipment on the MY 2004 Jeep Grand Cherokee vehicle line. The antitheft device to be installed on the MY 2004 Jeep Grand Cherokee does not include an audible or visual alarm but does incorporate an ignition immobilizer system.

The Sentry Key Immobilizer System (SKIS) prevents the engine from running for more than 2 seconds unless a valid key is in the ignition switch. The immobilizer feature is activated when the key is removed from the ignition switch whether the vehicle doors are open or not. Once activated, only a valid key inserted into the ignition switch will disable immobilization and allow the vehicle to start and continue to run. The SKIS has a visual telltale located in the vehicle electromechanical instrument cluster (EMIC). Besides acting as a SKIS diagnostic indicator, the telltale also alerts the owner than an unauthorized vehicle start attempt had been made. Upon an unauthorized start attempt, the telltale continuously illuminates until the owner starts the vehicle with the proper Sentry Key. The telltale will be illuminated for three seconds when the ignition is turned to the “ON” position.

The Sentry Key Immobilizer Module (SKIM), Jeep/Truck Engine Controller Plus (JTEC+) and the sentry key perform the immobilizer function. The JTEC+ controller must be programmed with the VIN and a secret key and the VIN must be programmed by a diagnostic tool. The EMIC controls the telltale only. When the sentry key is placed in the ignition, the SKIM and the key communicate via RF signal. After the SKIM determines that the key is valid, the SKIM requests a seed number from the JTEC+ controlled on all vehicles. The JTEC+ controller then verifies the code from the SKIM and transmits a key status (valid/invalid signal). To avoid any perceived delay when starting the vehicle with a valid key and to prevent unburned fuel from entering the exhaust, the engine is permitted to run for no more than 2 seconds if an invalid key is used. If the code from the SKIM is invalid, the JTEC+ controller immobilizes the vehicle by shutting down the engine (after the initial 2 second run). Only 6 consecutive invalid vehicle start attempts are permitted, all further invalid attempts are locked out by not firing fuel injectors and not engaging the starter. Only the communication with a valid key is required to permit the engine to start and run.

Replacing the SKIM requires a secret key to decode the ignitions keys. A copy of this secret key is stored in the JTEC+ controller. In replacing the JTEC+ controller, it must again have the VIN programmed in order for the vehicle to start and the secret key transferred to it by the SKIM. A diagnostic tool is required to perform both of these functions.

DaimlerChrysler stated that the SKIM performs the interrogation with the transponder in the key using a Texas Instruments proprietary algorithm which results in a 40-bit number which allows for over one trillion combinations. Each ignition key used in the SKIS has an integral transponder chip. Ignition keys with this feature can be readily identified by a gray rubber cap molded onto the head of the key, while conventional ignition keys have a black molded rubber. The transponder chip is concealed beneath the molded rubber cap, where it is molded onto the head of the metal key.

In order to ensure the realiability and durability of the device, DaimlerChrysler conducted tests based on its own specified standards and stated its belief that the device meets the stringent performance standards prescribed. Specifically, the device must demonstrate a minimum of 95 percent reliability with 90 percent confidence. This is the same standard that vehicle air bag systems are designed and tested to. The SKIS if fully functional over a voltage range of 9 Vde to 16 Vde and a temperature range of −40 degrees celsius through 85 degrees celisius. In addition to the design and production validation test criteria, the SKIS undergoes a daily short term durability test whereby three randomly chosen systems are tested once per shift at the production facility. DaimlerChrysler also stated that 100% of the systems immobilizer undergoes a series of three functional tests prior to being shipped from the supplier to the vehicle assembly plant for installation in the vehicle.

DaimlerChrysler has installed the SKIS vehicle immobilizer systems as standard equipment on all Jeep Grand Cherokee vehicles since the 1999 model year. DaimlerChrysler stated that NHTSA's theft rates for the Jeep Grand Cherokee vehicles for model years 1995 to 1998 are 5.5545, 7.0188, 4.3163 and 4.3557 respectively, significantly higher than the 1990/1991 median theft rate of 3,5826. Likewise, DaimlerChrysler reports that the theft rates of Jeep Grand Cherokee vehicles that were equipped with immobilizer systems indicate rates significantly lower than the 1990/1991 median theft rate. Theft rates for the Jeep Grand Cherokee vehicles since the introduction of immobilizer systems as standard equipment for MYs 1999 through 2000 are 2.5630 and 2.4701 respectively.

On the basis of this comparison, DaimlerChrysler has concluded that the proposed antitheft device is no less effective than those devices installed on lines for which NHTSA has already granted full exemption from the parts-making requirements.

Based on the evidence submitted by DaimlerChrysler, the agency believes that the antitheft device for the Jeep Grand Cherokee vehicle line is likely to be as effective in reducing and deterring motor vehicle theft as compliance with the parts-marking requirements of the Theft Prevention Standard (49 CFR 541). The agency concludes that the device will provide four of the five types of performance listed in § 543.6(a)(3): Promoting activation; attracting attention to the efforts of unauthorized persons to enter or operate a vehicle by means other than a key; preventing defeat or circumvention of the device by unauthorized persons; preventing operation of the vehicle by unauthorized entrants; and ensuring the reliability and durability of the device.

As required by 49 U.S.C. § 33106 and 49 CFR Part 543.6(a)(4) and (5), the agency finds that DaimlerChrysler has provided adequate reasons for its belief that the antitheft device will reduce and deter theft. This conclusion is based on the information DaimlerChrysler provided about its antitheft device

For the foregoing reasons, the agency hereby grants in full DaimlerChrysler's petition for an exemption for the MY 2004 Jeep Grand Cherokee vehicle line from the parts-making requirements of 49 CFR Part 541. If DaimlerChrysler decides not to use the exemption for this line, it should formally notify the agency. If such a decision is made, the line must be fully marked according to the requirements of 49 CFR Parts 541.5 and 541.6 (marking of major components parts and replacement parts).

NHTSA notes that if DaimlerChrysler wishes in the future to modify the device on which this exemption is based, the company may have to submit a petition to modify the exemption. Part 543.7(d) states that a Part 543 exemption applies only to vehicles that belong to a line exempted under this part and equipped with the antitheft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minims. Therefore, NHTSA suggests that if the manufacturer contemplates making any changes the effects of which might be characterized as de minimis, it should consult the agency before preparing and submitting a petition to modify

Authority: 49 U.S.C. 33106; delegation of authority at 49 CFR 1.50.

Issued on: December 20, 2002.
Stephen R. Kratzke,
Associate Administrator for Rulemaking.

[FR Doc. 02-32938 Filed 12-27-02; 8:45 am]

BILLING CODE 4910-59-M